DEPARTMENT OF HOMELAND SECURITY

Coast Guard

33 CFR Part 117

[Docket No. USCG-2016-1016]

Drawbridge Operation Regulation; York River, Yorktown, VA

AGENCY: Coast Guard, DHS.

ACTION: Notice of deviation from drawbridge regulation.

SUMMARY: The Coast Guard has issued a temporary deviation from the operating schedule that governs the Coleman Memorial (US 17) Swing Bridge across the York River, mile 7.0, Yorktown, VA. The deviation is necessary to accommodate maintenance to the bridge's hydraulic motors, pumps, and hoses. This deviation allows the bridge to remain in the closed-to-navigation position.

DATES: This deviation is effective without actual notice from December 5, 2016 through 8 p.m. on December 15, 2016. For the purposes of enforcement, actual notice will be used from 7:00 a.m. on December 1, 2016, until December 5, 2016.

ADDRESSES: The docket for this deviation, [USCG-2016-1016] is available at http://www.regulations.gov. Type the docket number in the “SEARCH” box and click “SEARCH”. Click on Open Docket Folder on the line associated with this deviation.

FOR FURTHER INFORMATION CONTACT: If you have questions on this temporary deviation, call or email Mr. Martin Bridges, Bridge Administration Branch Fifth District, Coast Guard, telephone 757-398-6422, email Martin.A.Bridges@uscg.mil.

SUPPLEMENTARY INFORMATION: The Virginia Department of Transportation, who owns the Coleman Memorial (US 17) Swing Bridge across the York River, mile 7.0, Yorktown, VA, has requested a temporary deviation from the current operating regulations set out in 33 CFR 117.1025 to facilitate maintenance to the bridge's hydraulic motors, pumps, and hoses.

Under this temporary deviation, the bridge will remain in the closed-to-navigation position from 7:00 a.m. to 8:00 p.m., on December 1, 2016, and December 8, 2016; with an alternate date on December 15, 2016. At all other times, the bridge will operate per 33 CFR 117.1025. The bridge is a swing bridge and has a vertical clearance in the closed-to-navigation position of 60 feet above mean high water.

The York River is used by a variety of vessels including recreational, tug and barge, fishing vessels, and small commercial vessels. The Coast Guard has carefully considered the nature and volume of vessel traffic on the waterway in publishing this temporary deviation.

Vessels able to pass through the bridge in the closed-position may do so at any time. The bridge will not be able to open in case of an emergency. The Coast Guard will also inform the users of the waterway through our Local Notice and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: November 29, 2016.
Hal R. Pitts,
Bridge Program Manager, Fifth Coast Guard District.

[FR Doc. 2016-29050 Filed 12-2-16; 8:45 am]

BILLING CODE 9110-04-P